DEPARTMENT OF DEFENSE

Office of the Secretary

[Transmittal No. 22-0L]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0L.

Dated: August 1, 2024.
Aaron T. Siegel,
Alternate OSD Federal Register Liaison Officer, Department of Defense.

BILLING CODE 6001-FR-P

BILLING CODE 6001-FR-C

Transmittal No. 22-0L

REPORT OF ENHANCEMENT OR UPGRADE OF SENSITIVITY OF TECHNOLOGY OR CAPABILITY (SEC. 36(B)(5)(C), AECA)

(i) Purchaser: Government of Jordan

(ii) Sec. 36(b)(1), AECA Transmittal No.: 22-06

Date: February 3, 2022

Implementing Agency: Air Force

Funding Source: Foreign Military Financing (FMF)

(iii) Description: On February 3, 2022, Congress was notified by Congressional certification transmittal number 22-06 of the possible sale, under Section 36(b)(1) of the Arms Export Control Act, to the Government of Jordan of twelve (12) F-16 C Block 70 Aircraft; four (4) F-16 D Block 70 Aircraft; twenty-one (21) F100-GE-129D Engines or F100-PW229EEP Engines (16 installed, 5 spares); twenty-one (21) Improved Programmable Display Generators (iPDG) (16 installed, 5 spares); twenty-one (21) AN/APG-83 Active Electronically Scanned Array (AESA) Scalable Agile Beam Radars (SABR) (16 installed, 5 spares); twenty-one (21) Modular Mission Computers (MMC) 7000AH (16 installed, 5 spares); twenty-seven (27) LN-260 (or equivalent) Embedded Global Positioning System (GPS) Inertial Navigation Systems (INS) (EGI) with Selective Availability Anti-Spoofing Module (SAASM) and Precise Positioning Service (PPS) (16 installed, 11 spares); six (6) AN/AAQ-33 Sniper Advanced Targeting Pods (ATP); thirty-one (31) Link 16 Low-Volume Terminals (for aircraft and ground stations) (26 installed, 5 spares); seventy-two (72) LAU-129 launchers (64 installed, 8 spares); twenty-one (21) M61A1 Vulcan Cannons (16 installed, 5 spares); four hundred two (402) FMU-139 or FMU-152 Joint Programmable Fuzes; one hundred (100) KMU-556 Joint Direct Attack Munition (JDAM) tail kits for 2,000LB GBU-31; one hundred two (102) KMU-572 JDAM tail kits for 500LB Laser JDAM GBU-54; one hundred (100) MAU-209 Computer Control Group (CCG) for Paveway II (PWII) GBU-10; one hundred two (102) MXU-651 Air Foil Group (AFG) for 2000LB PWII GBU-10; one hundred (100) MAU-210 Enhanced Computer Control Group (ECCG) for 500LB Enhanced Paveway II (EP II) EGBU-49; one hundred three (103) MXU-650 Air Foil Group (AFG) for 2000LB EP II EGBU-49; two hundred (200) MK-84 or BLU-117 (or equivalent) bomb bodies; two hundred four (204) MK-82 or BLU-111 (or equivalent) bomb bodies; six (6) MK-82 inert bombs; and two (2) MAU-169 Computer Control Group (CCG) trainers. Also included were AN/ARC-238 radios; AN/APX-126 or equivalent Advanced Identification Friend or Foe (AIFF) with Combined Interrogator Transponder (CIT); Joint Helmet Mounted Cueing System II (JHMCS II) or Scorpion Hybrid Optical-based Inertial Tracker (HObIT) helmet mounted displays; AN/ALQ-254 Viper Shield or equivalent Integrated Electronic Warfare (EW) systems; AN/ALE-47 Countermeasure Dispenser System (CMDS); KY-58M Cryptographic Devices; KIV-78 Cryptographic Devices; Simple Key Loaders (SKL); Joint Mission Planning System (JMPS) or equivalent; PGU-28 High Explosive Incendiary (HEI) ammunition; PGU-27 training ammunition (non-HEI); ARD-446 impulse cartridges; ARD-863 impulse cartridges BBU-36 impulse cartridges; BBU-35 impulse cartridges; MK-124 smoke flares; MJU-7/B flare cartridges L463 or MJU-53 or equivalent; Common Munitions Built-in-Test (BIT) Reprogramming Equipment (CMBRE); ADU-891 adapters for CMBRE; DSU-38 laser sensors for Laser JDAM GBU-54; Cartridge Actuated Device/Propellant Actuated Devices (CAD/PAD); BRU-57 bomb racks; MAU-12 bomb racks and TER-9A triple ejection racks; other chaff and flare, ammunition, and pylons; launcher adaptors and weapons interfaces; fuel tanks and attached hardware; travel pods; aircraft and weapons integration, test, and support equipment; electronic warfare database and mission data file development; precision measurement and calibration laboratory equipment; secure communications; cryptographic equipment; precision navigation equipment; aircraft and personnel support and test equipment; spare and repair parts; repair and return services; maps, publications, and technical documentation; studies and surveys; classified/unclassified software and software support; personnel training and training equipment; facilities and facility management, design and/or construction services; U.S. Government and contractor engineering, technical and logistics support services; and other related elements of logistical and program support. The estimated total cost was $4.21 billion. Major Defense Equipment (MDE) constituted $2.39 billion of this total.

This transmittal notifies the addition of the following MDE items: thirty-one (31) Multifunctional Information Distribution Systems with Joint Tactical Radio Systems (MIDS JTRS); thirty-two (32) AIM-9X Block II Sidewinder missiles; twenty (20) AIM-9X Block II Sidewinder Captive Air Training Missiles (CATM); four (4) AIM-9X Block II Sidewinder tactical guidance units; and four (4) AIM-9X Block II Sidewinder CATM guidance units. Also, this transmittal reports a correction to the previously notified “twenty-one (21) F100-GE-129D Engines or F100-PW229EEP Engines (16 installed, 5 spares)” to “twenty-one (21) F110-GE-129D Engines or F100-PW229EEP Engines (16 installed, 5 spares);” there is currently no GE aircraft engine designated as F100. The addition of the new items will cause an increase in the total net cost of MDE by $0.06 billion to $2.45 billion. The estimated total case value will increase to $4.27 billion.

(iv) Significance: This notification is being provided to correctly identify the designation of F110-GE-129D engines to be included in this sale; furthermore, the additional MDE items were not enumerated in the original notification. The inclusion of this MDE represents an increase in capability over what was previously notified. The proposed articles and services will continue modernization of the Jordanian fighter aircraft fleet and support operational requirements associated with regional U.S.-coalition goals such as countering violent extremist organizations, countering malign state and non-state actors, and border defense, while ensuring continued interoperability with U.S. and coalition forces.

(v) Justification: This proposed sale will support the foreign policy and national security objectives of the United States by helping to improve the security of a Major Non-NATO Ally that is an important force for political stability and economic progress in the Middle East.

(vi) Sensitivity of Technology:

The AN/USQ-190 Multifunctional Information Distribution System with Joint Tactical Radio System (MIDS JTRS) is an advanced Link-16 command, control, communications, and intelligence (C3I) system incorporating high-capacity, jam-resistant digital communications links for exchange of near-real-time tactical information, including both data and voice, among air, ground, and sea elements.

The AIM-9X Block II Sidewinder Missile is a short-range, air-to-air missile providing a high off-boresight seeker, enhanced countermeasure rejection capability, low drag/high angle of attack airframe, and the ability to integrate a Helmet Mounted Cueing System.

This potential sale will include tactical guidance units, Captive Air Training Missiles (CATMs), and CATM guidance units.

The highest level of classification of defense articles, components, and services included in this potential sale is SECRET.

(vii) Date Report Delivered to Congress: September 27, 2022

[FR Doc. 2024-17364 Filed 8-5-24; 8:45 am]

BILLING CODE 6001-FR-P